DEPARTMENT OF TRANSPORTATION

Federal Aviation Administration

14 CFR Part 39

[Docket No. FAA-2017-0608; Product Identifier 2017-CE-017-AD; Amendment 39-19020; AD 2017-18-11]

RIN 2120-AA64

Airworthiness Directives; Textron Aviation Inc. Airplanes

AGENCY: Federal Aviation Administration (FAA), DOT.

ACTION: Final rule.

SUMMARY: We are adopting a new airworthiness directive (AD) for certain Textron Aviation Inc. Model 390 airplanes (type certificate previously held by Beechcraft Corporation). This AD was prompted by reports of hydraulic fluid loss from the engine driven pumps (EDPs) on three different airplanes. This AD requires an inspection to determine if an affected EDP is installed with replacement as necessary. We are issuing this AD to address the unsafe condition on these products.

DATES: This AD is effective October 16, 2017.

The Director of the Federal Register approved the incorporation by reference of certain publications listed in this AD as of October 16, 2017.

ADDRESSES: For service information identified in this final rule, contact Textron Aviation Inc., Textron Aviation Customer Service, P.O. Box 7706, Wichita, Kansas 67277; telephone: (316) 517-5800; email: premier@txtav.com; Internet: www.txtavsupport.com. For information on the availability of this material at the FAA, Policy and Innovation Division, 901 Locust, Kansas City, Missouri 64106. For information on the availability of this material at the FAA, call (816) 329-4148. It is also available on the internet at http://www.regulations.gov by searching for and locating Docket No. FAA-2017-0608.

Examining the AD Docket

You may examine the AD docket on the Internet at http://www.regulations.gov by searching for and locating Docket No. FAA-2017-0608; or in person at the Docket Management Facility between 9 a.m. and 5 p.m., Monday through Friday, except Federal holidays. The AD docket contains this final rule, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Paul C. DeVore, Aerospace Engineer, Wichita ACO Branch, 1801 Airport Road, Room 100, Wichita, Kansas 67209; telephone: (316) 946-4142; fax: (316) 946-4107, email: paul.devore@faa.gov or Wichita-COS@faa.gov.

SUPPLEMENTARY INFORMATION:

Discussion

We issued a notice of proposed rulemaking (NPRM) to amend 14 CFR part 39 by adding an AD that would apply to certain Textron Aviation Inc. Model 390 airplanes (type certificate previously held by Beechcraft Corporation). The NPRM published in the Federal Register on June 20, 2017 (82 FR 28026). The NPRM was prompted by reports of hydraulic fluid loss from the engine driven pumps (EDPs) on three different Textron Aviation Inc. Model 390 airplanes. In one incident, the airplane exited the runway at a high speed, resulting in extensive damage to the airplane. One manufacturing lot of EDPs has excessive pitting in the aluminum port caps that could cause multiple-origin fatigue cracking of the port caps. Flammable hydraulic fluid could leak into the engine compartment, and the leaking could also cause loss of all normal hydraulic functions, including normal anti-skid braking, ground spoilers, speedbrakes, and normal landing gear extension. The NPRM proposed to require an inspection to determine if an affected EDP is installed with replacement as necessary. We are issuing this AD to correct the unsafe condition on these products.

Comments

We gave the public the opportunity to participate in developing this final rule. We received no comments on the NPRM or on the determination of the cost to the public.

Conclusion

We reviewed the relevant data and determined that air safety and the public interest require adopting this final rule as proposed except for minor editorial changes. We have determined that these minor changes:

• Are consistent with the intent that was proposed in the NPRM for correcting the unsafe condition; and

• Do not add any additional burden upon the public than was already proposed in the NPRM.

Related Service Information Under 1 CFR Part 51

We reviewed Parker Service Bulletin 66179-29-486, dated August 4, 2016, which identifies the affected serial number EDPs. We also reviewed Beechcraft Mandatory Service Bulletin SB 29-4161, dated November 18, 2016, which describes procedures for determining if an affected serial number EDP is installed and procedures for replacing the EDP if necessary. This service information is reasonably available because the interested parties have access to it through their normal course of business or by the means identified in the ADDRESSES section.

Costs of Compliance

We estimate that this AD affects 179 airplanes of U.S. registry.

We estimate the following costs to comply with this AD:

Estimated Costs
Action | Labor cost | Parts cost | Cost per product | Cost on U.S. operators
Inspection to determine if affected serial number EDP is installed | .5 work-hour × $85 per hour = $42.50 | Not applicable | $42.50 | $7,607.50

We estimate the following costs to do any necessary replacement that would be required based on the results of the inspection. We estimate the affected manufacturer lot of EDPs as 28 EDPs. If an airplane has two of the affected EDPs installed, both EDPs must be replaced. However, no more than a total of 28 EDPs will require replacing for the U.S. fleet:

On-Condition Costs
Action | Labor cost | Parts cost | Cost per product
Replacement of the EDP | 3 work-hours × $85 per hour = $255 | $17,388 | $17,643

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes and domestic business jet transport airplanes to the Director of the Policy and Innovation Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-18-11 Textron Aviation Inc.: Amendment 39-19020; Docket No. FAA-2017-0608; Product Identifier 2017-C E-017-AD.

(a) Effective Date

This AD is effective October 16, 2017.

(b) Affected ADs

None.

(c) Applicability

This AD applies to Textron Aviation Inc. (type certificate previously held by Beechcraft Corporation) Model 390 airplanes; serial numbers RB-4 through RB-295; certificated in any category.

(d) Subject

Joint Aircraft System Component (JASC)/Air Transport Association (ATA) of America Code 29, Hydraulic Power.

(e) Unsafe Condition

This AD was prompted by reports of hydraulic fluid loss from the engine driven pumps (EDPs) on three different airplanes. We are issuing this AD to prevent cracking of the EDP that could cause leakage of hydraulic fluid and possibly lead to loss of normal hydraulic functions, which could lead to a high-speed runway overrun and/or an in-flight fire.

(f) Compliance

Comply with this AD within the compliance times specified, unless already done.

(g) Inspection

Within 100 hours time-in service (TIS) after October 16, 2017 (the effective date of this AD), inspect the airplane to determine if any affected serial number EDP, part number (P/N) 66179-01 (Beechcraft/Textron P/N 390-389022-0003), is installed on the airplane following the Accomplishment Instructions in Beechcraft Mandatory Service Bulletin SB 29-4161, dated November 18, 2016. Use table 1 in Parker Service Bulletin 66179-29-486, dated August 4, 2016, to identify the affected serial numbers of EDP, P/N 66179-01 (Beechcraft/Textron P/N 390-389022-0003).

(h) Replacement

If any affected serial number EDP was found during the inspection required in paragraph (g) of this AD, within 100 hours TIS after October 16, 2017 (the effective date of this AD), replace any affected serial number EDP, P/N 66179-01 (Beechcraft/Textron P/N 390-389022-0003), with a serviceable serial number EDP, P/N 66179-01 (Beechcraft/Textron P/N 390-389022-0003) that is either not listed in table 1 of Parker Service Bulletin 66179-29-486, dated August 4, 2016, or has been reworked following Parker Service Bulletin 66179-29-486, dated August 4, 2016. Use the Accomplishment Instructions in Beechcraft Mandatory Service Bulletin SB 29-4161, dated November 18, 2016, to do the replacement actions.

(i) Alternative Methods of Compliance (AMOCs)

(1) The Manager, Wichita ACO Branch, FAA, has the authority to approve AMOCs for this AD, if requested using the procedures found in 14 CFR 39.19. In accordance with 14 CFR 39.19, send your request to your principal inspector or local Flight Standards District Office, as appropriate. If sending information directly to the manager of the ACO Branch, send it to the attention of the person identified in paragraph (j) of this AD.

(2) Before using any approved AMOC, notify your appropriate principal inspector, or lacking a principal inspector, the manager of the local flight standards district office/certificate holding district office.

(j) Related Information

For more information about this AD, contact Paul C. DeVore, Aerospace Engineer, Wichita ACO Branch, 1801 Airport Road, Room 100, Wichita, Kansas 67209; telephone: (316) 946-4142; fax: (316) 946-4107, email: paul.devore@faa.gov or Wichita-COS@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Beechcraft Mandatory Service Bulletin SB 29-4161, dated November 18, 2016.

(ii) Parker Service Bulletin 66179-29-486, dated August 4, 2016.

(3) For service information identified in this AD, contact Textron Aviation Inc., Textron Aviation Customer Service, P.O. Box 7706, Wichita, Kansas 67277; telephone: (316) 517-5800; email: premier@txtav.com; Internet: www.txtavsupport.com; Internet: www.txtav.com.

(4) You may view this service information at FAA, Policy and Innovation Division, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on August 29, 2017.
Melvin Johnson,
Deputy Director, Policy and Innovation Division, Aircraft Certification Service.

[FR Doc. 2017-18908 Filed 9-8-17; 8:45 am]

BILLING CODE 4910-13-P